DEPARTMENT OF HEALTH AND HUMAN SERVICES

[Document Identifier: OS-0937-new]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before February 24, 2025.

ADDRESSES: Submit your comments to Sherrette.Funn@hhs.gov or by calling (202) 264-0041 and PRA@HHS.GOV.

FOR FURTHER INFORMATION CONTACT: When submitting comments or requesting information, please include the document identifier 0937-New-60D and project title for reference, to Sherrette A. Funn, email: Sherrette.Funn@hhs.gov, PRA@HHS.GOV or call (202) 264-0041 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Site Profiles for the Teen Pregnancy Prevention Fiscal Year 2023 Tier 1 and Tier 2 Rigorous Evaluation Grantees.

Type of Collection: New Collection.

OMB No. 0937-NEW—Office of Population Affairs.

Abstract: The Office of Population Affairs (OPA), U.S. Department of Health and Human Services (HHS) is requesting one year of OMB approval on a new collection. The Teen Pregnancy Prevention 2023 (TPP23) Site Profile Study will profile how 53 OPA Tier 1 grantees, funded in 2023, are implementing their programs to reduce rates of unintended teen pregnancy and sexually transmitted infections in their selected communities or priority areas. It will also profile how 12 OPA Tier 2 Rigorous Evaluation grantees, funded in 2023, are evaluating promising new programs to expand the evidence-base of teen pregnancy prevention programs. OPA anticipates that grantees will employ diverse strategies to implement their teen pregnancy prevention projects. To document these varied approaches, the study will survey a staff member of each grantee to identify key components of their projects to support the development of site profiles detailing each grantees' program or evaluation.

Type of respondent: Survey participants will include up to 53 Tier 1 grantee staff members and 12 Tier 2 Rigorous Evaluation grantee staff members.

Frequency: One time.

Affected public: Public and private businesses, and state and local government agencies.

Annualized Burden Hour Table
Forms (if necessary) | Respondents (if necessary) | Number of respondents | Number of responses per respondents | Average burden per response | Total burden hours
Tier 1 Grantee Survey | Tier 1 grantee director and other designated staff | 53 | 1 | .75 | 39.75
Tier 2 Rigorous Evaluation Grantee Survey | Tier 2 Rigorous Evaluation grantee director and other designated staff | 12 | 1 | .75 | 9
Total |  |  | 65 |  | 48.75

Sherrette A. Funn,
Paperwork Reduction Act Reports Clearance Officer, Office of the Secretary.

[FR Doc. 2024-30673 Filed 12-23-24; 8:45 am]

BILLING CODE 4168-11-P